DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

Blocking of Property and Interests in Property Pursuant to E.O. 14014

On January 31, 2024, OFAC determined that the property and interests in property subject to U.S. jurisdiction of the following persons are blocked under the relevant sanctions authority listed below.

Individuals

1. ZAW, Thein Win, Burma; DOB 02 Feb 1963; POB Twantay, Burma; nationality Burma; Gender Male; Passport MG551721 (Burma) expires 26 Sep 2027; National ID No. 12/LAMANAN133128 (Burma) (individual) [BURMA-EO14014] (Linked To: SHWE BYAIN PHYU GROUP OF COMPANIES).

Designated pursuant to section 1(a)(iii)(D) of Executive Order 14014 of February 10, 2021, “Blocking Property With Respect to the Situation in Burma”, 86 FR 9429 (“E.O. 14014”) for being or having been a leader or official of Shwe Byain Phyu Group Of Companies, an entity whose property and interests in property are blocked pursuant to this order as a result of activities related to the leader's or official's tenure.

2. MIN, Tin Latt, Burma; DOB 15 Jun 1968; nationality Burma; Gender Female; National ID No. 5/MAYANAN012759 (Burma) (individual) [BURMA-EO14014] (Linked To: ZAW, Thein Win).

Designated pursuant to section 1(a)(v) of E.O. 14014 for being a spouse or adult child of Thein Win Zaw, a person whose property and interests in property are blocked pursuant to this order.

3. KYAW, Win Paing, Burma; DOB 29 May 1996; nationality Burma; Gender Male; National ID No. 12/LAMANAN151183 (Burma) (individual) [BURMA-EO14014] (Linked To: ZAW, Thein Win).

Designated pursuant to section 1(a)(v) of E.O. 14014 for being a spouse or adult child of Thein Win Zaw, a person whose property and interests in property are blocked pursuant to this order.

4. HTET, Theint Win, Burma; DOB 21 May 1999; nationality Burma; Gender Female; National ID No. 12/LAMANAN155055 (Burma) (individual) [BURMA-EO14014] (Linked To: ZAW, Thein Win).

Designated pursuant to section 1(a)(v) of E.O. 14014 for being a spouse or adult child of Thein Win Zaw, a person whose property and interests in property are blocked pursuant to this order.

Entities

1. SHWE BYAIN PHYU GROUP OF COMPANIES (a.k.a. SHWE BYAING PHYU GROUP), No. 16 Shwe Taung Kyar Road, 2 Ward Shwe Tuang Kyar, Bahan Township, Yangon 11201, Burma; Organization Established Date 1996; Organization Type: Activities of holding companies [BURMA-EO14014] (Linked To: MYANMA ECONOMIC HOLDINGS PUBLIC COMPANY LIMITED).

Designated pursuant to section 1(a)(vi) of E.O. 14014 for having materially assisted, sponsored, or provided financial, material, or technological support for, or goods or services to or in support of Myanma Economic Holdings Public Company Limited, a person whose property and interests in property are blocked pursuant to this order.

2. MYANMA FIVE STAR LINE COMPANY LIMITED (a.k.a. MYANMA FIVE STAR LINE; a.k.a. MYANMA FIVE STAR SHIPPING COMPANY; a.k.a. MYANMAR FIVE STAR LINE; a.k.a. “FIVE STAR SHIPPING COMPANY”; a.k.a. “FIVE STAR SHIPPING LINE”; a.k.a. “MFSL”), Burma; Organization Established Date 25 Jun 2010; Organization Type: Sea and coastal freight water transport; Registration Number 107184368 (Burma) [BURMA-EO14014] (Linked To: MYANMA ECONOMIC HOLDINGS PUBLIC COMPANY LIMITED).

Designated pursuant to section 1(a)(v) of E.O. 14014 for being owned or controlled by, or having acted or purported to act for or on behalf of, directly or indirectly, Myanma Economic Holdings Public Company Limited, a person whose property and interests in property are blocked pursuant to this order.

Authority: E.O. 14014, 86 FR 9429.

Dated: January 31, 2024.
Bradley T. Smith,
Director, Office of Foreign Assets Control, U.S. Department of the Treasury.

[FR Doc. 2024-02240 Filed 2-7-24; 8:45 am]

BILLING CODE 4810-AL-P